Proclamation 10940 of May 16, 2025

Jewish American Heritage Month, 2025

By the President of the United States of America

A Proclamation

Since the time the United States was but a coalition of villages and settlements, America's Jewish citizens have played an indispensable role in our national story. They arrived as farmers, soldiers, tailors, and merchants, settling quickly and contributing greatly to the fields of law, art, science, and medicine. At crucial moments, Jewish Americans have joined their fellow citizens in working towards America's unique vision of life, liberty, and the pursuit of happiness.

The New World allowed those Jewish people emigrating from Europe to freely practice their faith without persecution, for the American experiment offered something providential—an escape from every indignity, every abuse, and every tragedy visited upon the Jewish people over their long history.

In my proclamation declaring Jewish American Heritage Month in 2019, I drew from the words President George Washington drafted and sent to the Hebrew Congregation of Newport, Rhode Island, on August 18, 1790, addressing the Jewish citizens of our new Republic. President Washington's letter contained a blessing, that “the Children of the Stock of Abraham, who dwell in this land, continue to merit and enjoy the good will of the other Inhabitants; while everyone shall sit in safety under his own vine and fig tree, and there shall be none to make him afraid.”

During my first 4 years as President, in the several proclamations I issued for Jewish American Heritage Month, I often had the unfortunate task of contrasting President Washington's timeless blessing with whatever violent acts of anti-Semitism had occurred in the previous year. Each time, it was an all too painful reminder of the fragility of President Washington's words.

Then, October 7, 2023, happened, shattering the peace, not only abroad but also at home. Since those horrific attacks, the Jewish community in the United States—and around the world—has faced an incredible trial, though one that was not unfamiliar in Jewish history. College campuses and city streets erupted into violence. Blood libels were displayed proudly at protests. Those wearing yarmulkes were openly assaulted in the streets. The America that its Jewish citizens felt that they once knew appeared to have shifted completely.

In his letter, President Washington championed a different vision: “For happily the Government of the United States, which gives to bigotry no sanction, to persecution no assistance requires only that they who live under its protection should demean themselves as good citizens.”

Since the day I resumed my duties as President—and following President Washington's example—my Administration has been determined to confront anti-Semitism in all its manifestations. I say that at home and abroad, on college campuses and in city streets, this dangerous return of anti-Semitism—at times disguised as anti-Zionism, Holocaust denialism, and false equivalencies of every kind—must find no quarter.

We proudly celebrate the history and culture of the Jewish people in America, and we hold that President Washington's words, though nearly 250 years old, still carry the revolutionary promise of our Republic: that every citizen who demeans himself as a good citizen shall sit in safety under his own vine and fig tree—a covenant added to a blessing.

I believe there has never been a greater friend to the Jewish people than my Administration. We will never deviate from our conviction that anti-Semitism has no place in the greatest country in the world. As the 47th President of the United States, I will use every appropriate legal tool at my disposal to stop anti-Semitic assaults gripping our universities. We will proudly stand with our friend and ally, the State of Israel. I will never waver in my commitment.

NOW, THEREFORE, I, DONALD J. TRUMP, President of the United States of America, by virtue of the authority vested in me by the Constitution and the laws of the United States, do hereby proclaim May 2025 as Jewish American Heritage Month. I call upon Americans to celebrate the heritage and contributions of American Jews and to observe this month with appropriate programs, activities, and ceremonies.

IN WITNESS WHEREOF, I have hereunto set my hand this sixteenth day of May, in the year of our Lord two thousand twenty-five, and of the Independence of the United States of America the two hundred and forty-ninth.

[FR Doc. 2025-09338

Filed 5-21-25; 8:45 am]

Billing code 3395-F4-P